DEPARTMENT OF AGRICULTURE

Animal and Plant Health Inspection Service

[Docket No APHIS-2012-0061]

Field Release of Aphelinus glycinis for the Biological Control of the Soybean Aphid in the Continental United States; Availability of an Environmental Assessment

AGENCY: Animal and Plant Health Inspection Service, USDA.

ACTION: Notice of availability and request for comments.

SUMMARY: We are advising the public that a draft environmental assessment has been prepared by the Animal and Plant Health Inspection Service relative to the proposed release of Aphelinus glycinis for the biological control of the soybean aphid, Aphis glycines, in the continental United States. We are making this environmental assessment available to the public for review and comment.

DATES: We will consider all comments that we receive on or before September 4, 2012.

ADDRESSES: You may submit comments by either of the following methods:

• Federal eRulemaking Portal: Go to http://www.regulations.gov/#!documentDetail;D=APHIS-2012-0061.

• Postal Mail/Commercial Delivery: Send your comment to Docket No. APHIS-2012-0061, Regulatory Analysis and Development, PPD, APHIS, Station 3A-03.8, 4700 River Road Unit 118, Riverdale, MD 20737-1238.

The environmental assessment and any comments we receive may be viewed at http://www.regulations.gov/#!docketDetail;D=APHIS-2012-0061 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Shirley A. Wager-Page, Chief, Pest Permitting Branch, Registration, Identification, Permitting, and Plant Safeguarding, PPQ, APHIS, 4700 River Road Unit 134, Riverdale, MD 20737-1236; (301) 851-2323.

SUPPLEMENTARY INFORMATION:

Background

The soybean aphid, Aphis glycinis, which is native to Asia, was found in North America in 2000 and has since become a major pest in America. It infested 42 million acres alone in 2003, resulting in decreased soybean yields and greatly increased control costs. The soybean aphid has invaded most soybean production regions in North America, including numerous U.S. States and three Canadian Provinces.

The Animal and Plant Health Inspection Service (APHIS) is proposing to issue permits for the field release of the insect Aphelinus glycinis to reduce the severity of soybean damage from infestations of soybean aphid in the United States. Permitting the release of this parasite species is necessary to determine its impact on soybean aphid populations and its ability to survive in the target area.

APHIS' review and analysis of the potential environmental impacts associated with these proposed field tests are documented in detail in an environmental assessment entitled “Field Release of Aphelinus glycinis for the Biological Control of the Soybean Aphid in the Continental United States” (March 2012). We are making this environmental assessment available to the public for review and comment. We will consider all comments that we receive on or before the date listed under the heading DATES at the beginning of this notice.

The environmental assessment may be viewed on the Regulations.gov Web site or in our reading room (see ADDRESSES above for a link to Regulations.gov and information on the location and hours of the reading room). You may request paper copies of the environmental assessment by calling or writing to the person listed under FOR FURTHER INFORMATION CONTACT. Please refer to the title of the environmental assessment when requesting copies.

The environmental assessment has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1); and (4) APHIS' NEPA Implementing Procedures (7 CFR part 372).

Done in Washington, DC, this 30th day of July 2012.
Kevin Shea,
Acting Administrator, Animal and Plant Health Inspection Service.

[FR Doc. 2012-19026 Filed 8-2-12; 8:45 am]

BILLING CODE 3410-34-P